DEPARTMENT OF COMMERCE

National Oceanic and Atmospheric Administration

RIN 0648-XG982

Workshop on Atlantic Bluefin Tuna Management Strategy Evaluation

AGENCY: National Marine Fisheries Service (NMFS), National Oceanic and Atmospheric Administration (NOAA), Commerce.

ACTION: Notice of workshop.

SUMMARY: The University of Massachusetts Dartmouth, School for Marine Science and Technology and the Gulf of Maine Research Institute are hosting a workshop on “Stakeholder Engagement in Management Strategy Evaluation of Atlantic Bluefin Tuna Fisheries.” This educational workshop is supported with NMFS funding through the Bluefin Tuna Research Program and is open to the public.

DATES: A workshop will be held on April 29, 2019, from 10 a.m. to 5 p.m. EDT and April 30, 2019, from 9 a.m. to 12 p.m. EST.

ADDRESSES: The workshop will take place at University of Massachusetts Dartmouth, School for Marine Science and Technology, 836 South Rodney French Boulevard, New Bedford, MA, Rooms 101-103.

FOR FURTHER INFORMATION CONTACT: Dr. Steven Cadrin, scadrin@umassd.edu or (508) 910-6358.

SUPPLEMENTARY INFORMATION: Management strategy evaluation (MSE) is a process that allows fishery managers and stakeholders (e.g., industry, scientists, and non-governmental organizations) to assess how well different management strategies, achieve specified objectives for a fishery. The International Commission for the Conservation of Atlantic Tunas (ICCAT) has been engaged in developing an MSE for bluefin tuna. The United States participates in this MSE development and has been considering stakeholder input throughout that development through established procedures, including consultation with the ICCAT Advisory Committee and coordination with NMFS's Highly Migratory Species (HMS) Division and the HMS Advisory Panel. The United States also participates in the development of the MSE through U.S. scientists' participation in development of the MSE framework through ICCAT's Standing Committee on Research and Statistics (SCRS).

This educational workshop is intended to explain to a broader stakeholder audience the concept of MSE as a tool for fisheries management, describe the MSE approach being developed by ICCAT, and present preliminary demonstrations as an illustration of MSE for Atlantic bluefin tuna. One goal is to solicit feedback from U.S. fishery stakeholders on how scientists represent the Atlantic bluefin resource and fisheries in models, fishery management objectives, management performance indicators, and candidate management procedures. The workshop will primarily be informational and educational, and there will be no binding decisions or formal consensus-based recommendations. While discussions at the workshop will help to inform U.S. scientists who are participating in work of ICCAT's SCRS, recommendations directly affecting the United States' position development and input to the MSE will continue to occur through established procedures. This workshop is intended to complement, not replace, existing opportunities for U.S. stakeholder input. Limited funding is available to support travel to this workshop for Atlantic bluefin tuna stakeholders. For more information, contact Dr. Steven Cadrin.

Dated: April 17, 2019.
Paul Doremus,
Acting Director, Office of International Affairs and Seafood Inspection, National Marine Fisheries Service.

[FR Doc. 2019-08098 Filed 4-22-19; 8:45 am]

BILLING CODE 3510-22-P